DEPARTMENT OF COMMERCE

International Trade Administration

International Buyer Program: Application and Exhibitor Data; Proposed Collection; Comment Request

SUMMARY: The Department of Commerce, as part of its continuing effort to reduce paperwork and respondent burdens, invites the general public and other Federal agencies to take this opportunity to comment on the continuing information collections, as required by the Paperwork Reduction Act of 1995, Public Law 104-13 (44 U.S.C. 35068(2)(A)).

DATES: Written comments must be submitted on or before August 14, 2000.

ADDRESSES: Direct all written comments to Linda Engelmeier, Departmental Forms Clearance Officer, Department of Commerce, Room 6086, 14th & Constitution Avenue, NW, Washington, DC 20230. Phone number: (202) 482-3272.

FOR FURTHER INFORMATION CONTACT: Request for additional information or copies of the information collection instrument and instructions should be directed to: Jim Boney, U.S. & Foreign Commercial Service, Export Promotion Services, Room 2116, 14th & Constitution Avenue, NW., Washington, DC 20230; Phone number: (202) 482-0146, and fax number: (202) 482-0115.

SUPPLEMENTARY INFORMATION:

I. Abstract

The International Trade Administration's International Buyer Program (IBP) encourages international buyers to attend selected domestic trade shows in high export potential industries and to facilitate contact between U.S. exhibitors and foreign visitors. The program has been successful having substantially increased the number of foreign visitors attending these selected shows as compared to the attendance when not supported by the program. The number of shows selected to the program increased form 10 in 1986 to 28 in 2001. Among the criteria used to select these shows are: export potential, international interest, scope of show, stature of show, exhibitor interest, overseas marketing, logistics, and cooperation of show organizers.

II. Method of Collection

Form ITA-4014P, Exhibitor Data, is used to determine which U.S. firms are interested in meeting with international business visitors and the overseas business interest of the exhibitors. The exhibitor data form is completed by U.S. exhibitors participating in an IBP domestic trade show and is used to list the firm and its products in and Export Interest Directory which is distributed worldwide for use by Foreign Commercial Officers in recruiting delegations of international buyers to attend the show.

The Form ITA-4102P, Application, is used by a potential show organizer to provide (1) His/her experience, (2) ability to meet the special conditions of the IBP, and (3) information about the domestic trade show such as the number of U.S. exhibitors and the percentage of net exhibit space occupied by U.S. companies vis-a-vis non-U.S. exhibitors.

III. Data

OMB Number: 0625-0151.

Form Number: ITA-4014P and ITA-4102P.

Type of Review: Regular.

Affected Public: Business or other for-profit.

Estimated Number of Respondents: 4,760.

Estimated Time Per Response: 10 minutes and 180 minutes (Avg.).

Estimated Total Annual Burden Hours: 1,020 hours.

Estimated Total Annual Costs: $51,450.

The estimated annual cost for this collection is $51,450 ($35,700 for respondents and $15,750 for federal government).

IV. Request for Comments

Comments are invited on (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: June 8, 2000.
Madeleine Clayton,
Management Analyst, Office of the Chief Information Officer.

[FR Doc. 00-14939 Filed 6-13-00; 8:45 am]

BILLING CODE 3510-FP-U